DEPARTMENT OF HEALTH AND HUMAN SERVICES

Webinar Overview of the National Vaccine Advisory Committee Healthcare Personnel Influenza Vaccination Subgroup's Draft Report and Draft Recommendations for Achieving the Healthy People 2020 Annual Coverage Goals for Influenza Vaccination in Healthcare Personnel

AGENCY: National Vaccine Program Office, Office of the Assistant Secretary for Health, Office of the Secretary, Department of Health and Human Services.

ACTION: Notice.

SUMMARY: The National Vaccine Program Office (NVPO), on behalf of the National Vaccine Advisory Committee (NVAC), Healthcare Personnel Influenza Vaccination Subgroup (HCPIVS), will host an informational webinar to introduce the committee's draft report and draft recommendations for annually achieving 90% influenza vaccination coverage among healthcare personnel, as stated in the Healthy People 2020 goals. The informational webinar provides an opportunity for the public to listen to an overview of the findings and processes used by the HCPIVS members to derive their recommendations. Pre-registration for the webinar is required. The co-chairs of the HCPIVS working group will also provide information to the public on how to submit written comments on the draft report and draft recommendations through the Federal Register process. Registrants for the webinar will be provided an opportunity to submit questions about the report at the time of registration. Public and Stakeholder comments on the draft report and the draft recommendations should be directed to http://www.hhs.gov/nvpo/nvac/subgroups/healthcare_personnel_influenza_vacc_subgroup.html.

DATES: This webinar will be held on Monday, January 9, 2012 from 11 a.m.-12 p.m. EST. Registration will close January 4, 2012 at 5 p.m. EST.

ADDRESSES: Information about this webinar and registration can be found at: http://www.hhs.gov/nvpo/nvac/meetings/index.html.

Submitting Questions: Questions regarding the report may be submitted at the time of registration. Registration closes January 4, 2012 at 5 p.m. EST. The chairs of the working group reserve the right to determine which, if any, questions they will answer in the available time.

All stakeholders and members of the public may register to attend this webinar; the number of call-in lines is limited and available on a first-come, first-serve basis.

FOR FURTHER INFORMATION CONTACT: Jennifer Gordon, Ph.D., National Vaccine Program Office, Department of Health and Human Services, Hubert H. Humphrey Building, 200 Independence Ave. SW., Room 733G.3, Washington, DC 20201, Attn: Healthcare Personnel Influenza Vaccination, telephone (202) 205-5673; fax (202) 260-1165; email: nvpo@hhs.gov.

SUPPLEMENTARY INFORMATION:

I. Background

The National Vaccine Advisory Committee (NVAC) was established in 1987 to comply with Title XXI of the Public Health Service Act (Pub. L. 99-660) (§ 2105) (42 U.S. Code 300aa-5 (PDF-78 KB)). Its purpose is to advise and make recommendations to the Director of the National Vaccine Program on matters related to program responsibilities. The Assistant Secretary for Health (ASH) has been designated by the Secretary of Health and Human Services as the Director of the National Vaccine Program. The ASH has charged the NVAC with developing recommended strategies for annually achieving 90% influenza vaccination coverage among healthcare personnel, as stated in the Healthy People 2020 goals. The Healthcare Personnel Influenza Vaccination Subgroup (HCPIVS), a subgroup of the NVAC Adult Immunization Working Group (AWIG), was established to address this charge on behalf of the NVAC. The HCPIVS consists of a broad range of stakeholders including representatives from a variety of important medical and public health agencies and professional organizations. The HCPIVS members have deliberated on a number of scientific findings, position statements, and presentations that examine issues pertaining to influenza vaccination in healthcare personnel. Through discussion and careful review, the HCPIVS have developed draft recommendations for consideration by the NVAC to achieve this charge. The HCPIVS draft report and draft recommendations will be made available for public review and written comment from December 16, 2011 to January 16, 2012 through the Federal Register process.

The informational webinar provides an opportunity for the public to hear an overview of the findings and processes used by the HCPIVS members to derive their recommendations. The HCPIVS members will also provide information to the public on how to submit written comments on the draft report and draft recommendations through the Federal Register process. Written comments from the Federal Register will be given consideration by the NVAC when deliberating their final recommendations to the ASH.

Dated: December 8, 2011.
Mark Grabowsky,
Deputy Director, National Vaccine Program Office.

[FR Doc. 2011-32319 Filed 12-16-11; 8:45 am]

BILLING CODE 4150-44-P